ENVIRONMENTAL PROTECTION AGENCY

40 CFR Part 63

[OAR-2003-0138, FRL-8017-4]

RIN 2060-AM77

National Emission Standards for Hazardous Air Pollutants: Organic Liquids Distribution (Non-Gasoline)

AGENCY: Environmental Protection Agency (EPA).

ACTION: Proposed rule; extension of public comment period.

SUMMARY: On November 14, 2005, at 70 FR 69210, EPA proposed amendments to the “National Emission Standards for Hazardous Air Pollutants for Organic Liquids Distribution (Non-Gasoline)” and provided a 45-day public comment period. Written comments on the proposed rule amendments were to be submitted to the EPA on or before December 29, 2005. We have received requests asking for an extension of the public comment period. In consideration of these concerns, the EPA is extending the comment period by 21 days (until January 19, 2006).

DATES: Comments must be received on or before January 19, 2006.

ADDRESSES: Submit your comments, identified by Docket ID No. EPA-HQ-OAR-2003-0138, by one of the following methods:

• http://www.regulations.gov: Follow the on-line instructions for submitting comments.

• Email: a-and-r-docket@epamail.epa.gov.

• Fax: (202) 566-1741.

• Mail: Air and Radiation Docket and Information Center (6102), Attention: Docket ID No. EPA-HQ-OAR-2003-0138, U.S. Environmental Protection Agency, 1200 Pennsylvania Avenue, NW., Washington, DC 20460. Please include a total of two (2) copies. The EPA requests that a separate copy be sent to the contact person listed under the FOR FURTHER INFORMATION CONTACT section.

Instructions: Direct your comments to Docket ID No. EPA-HQ-OAR-2003-0138. EPA's policy is that all comments received will be included in the public docket without change and may be made available online at http://www.regulations.gov, including any personal information provided, unless the comment includes information claimed to be Confidential Business Information (CBI) or other information whose disclosure is restricted by statute. Do not submit information that you consider to be CBI or otherwise protected through http://www.regulations.gov or e-mail. The http://www.regulations.gov Web site is an “anonymous access” system, which means EPA will not know your identity or contact information unless you provide it in the body of your comment. If you send an e-mail comment directly to EPA without going through http://www.regulations.gov your e-mail address will be automatically captured and included as part of the comment that is placed in the public docket and made available on the Internet. If you submit an electronic comment, EPA recommends that you include your name and other contact information in the body of your comment and with any disk or CD ROM you submit. If EPA cannot read your comment due to technical difficulties and cannot contact you for clarification, EPA may not be able to consider your comment. Electronic files should avoid the use of special characters, any form of encryption, and be free of any defects or viruses.

Docket: All documents in the docket are listed in the http://www.regulations.gov index. Although listed in the index, some information is not publicly available, e.g., CBI or other information whose disclosure is restricted by statute. Certain other material, such as copyrighted material, will be publicly available only in hard copy. Publicly available docket materials are available either electronically in http://www.regulations.gov or in hard copy at the Docket, EPA/DC, EPA West, Room B102, 1301 Constitution Avenue, NW., Washington, DC. This Docket Facility is open from 8:30 a.m. to 4:30 p.m., Monday through Friday, excluding legal holidays. The Docket telephone number is (202) 566-1742. The Public Reading Room is open from 8:30 a.m. to 4:30 p.m., Monday through Friday, excluding legal holidays. The telephone number for the Public Reading Room is (202) 566-1744, and the telephone number for the Air and Radiation Docket is (202) 566-1742.

Submitting CBI: Do not submit this information to EPA through http://www.regulations.gov or e-mail. Clearly mark the part or all of the information that you claim to be CBI. For CBI information in a disk or CD ROM that you mail to EPA, mark the outside of the disk or CD ROM as CBI and then identify electronically within the disk or CD ROM the specific information that is claimed as CBI. In addition to one complete version of the comment that includes information claimed as CBI, a copy of the comment that does not contain the information claimed as CBI must be submitted for inclusion in the public docket. Information so marked will not be disclosed except in accordance with procedures set forth in 40 CFR part 2.

FOR FURTHER INFORMATION CONTACT: Ms. Martha Smith, Waste and Chemical Processes Group, Emission Standards Division (C439-03), U.S. Environmental Protection Agency, Research Triangle Park, North Carolina 27711, telephone number (919) 541-2421, fax number (919) 541-0246, email address: smith.martha@epa.gov.

SUPPLEMENTARY INFORMATION: The Organic Liquids Distribution rule was issued on February 3, 2004 (69 FR 5038). On November 14, 2005, at 70 FR 69210, EPA proposed amendments to the “National Emission Standards for Hazardous Air Pollutants for Organic Liquids Distribution (Non-Gasoline)” and provided a 45-day public comment period. Written comments on the proposed rule amendments were to be submitted to the EPA on or before December 29, 2005 (a 45-day public comment period). Requests have been received asking for an extension of the public comment period beyond the 45 days originally provided. These requests have been made by businesses that will be affected by the proposed rule amendments. Their request for this extension is based on the fact that Thanksgiving and Christmas holidays occur during the comment period which would cause hardship on their ability to provide timely and useful comments. In consideration of these concerns, the EPA is extending the comment period by 21 days (until January 19, 2006) in order to give all interested persons the opportunity to comment fully.

Dated: December 22, 2005.
William L. Wehrum,
Acting Assistant Administrator for Air and Radiation.

[FR Doc. E5-8039 Filed 12-28-05; 8:45 am]

BILLING CODE 6560-50-P